DEPARTMENT OF AGRICULTURE

Rural Utilities Service

PowerSouth Energy Cooperative Incorporated: Notice of Availability of an Environmental Assessment

AGENCY: Rural Utilities Service, USDA.

ACTION: Notice of Availability of an Environmental Assessment for Public Review.

SUMMARY: The Rural Utilities Service (RUS) has prepared an Environmental Assessment (EA) to meet its responsibilities under the National Environmental Policy Act (NEPA) and the Agency's environmental policies and procedures (7 CFR 1794) related to possible financial assistance to PowerSouth Energy Cooperative Incorporated (PowerSouth). PowerSouth is requesting financial assistance for the construction of a new 360-megawatt (MW) peaking-load gas-fired generation facility at the existing McIntosh Power Plant in Washington County, Alabama. The proposed new unit is needed to provide additional electric generating capacity that would allow PowerSouth to meet its projected electrical peaking demand in 2010.

DATES: Written comments on this Notice must be received on or before May 15, 2009.

FOR FURTHER INFORMATION CONTACT: Contact Stephanie Strength, Environmental Protection Specialist, USDA, Rural Utilities Service, 1400 Independence Avenue, SW., Room 2244, Stop 1571, Washington, DC 20250-1571, or e-mail stephanie.strength@wdc.usda.gov.

ADDRESSES: Comments may be submitted to Stephanie Strength, Environmental Protection Specialist, USDA, Rural Utilities Service, 1400 Independence Avenue, SW., Room 2244, Stop 1571, Washington, DC 20250-1571, or e-mail stephanie.strength@wdc.usda.gov.

A copy of the EA may be viewed online at the Agency's Web site: http://www.usda.gov/rus/water/ees/ea.htm or at PowerSouth Energy Cooperative, Inc., 2027 East Three Notch Street, Andalusia, Alabama 36420 and at the following libraries:

McIntosh Branch Library, 83 Olin Road, McIntosh, AL 36553, (251) 944-2047.

Washington Public Library, 14102 St. Stephens Avenue, Chatom, AL 36515, (251) 847-2097.

SUPPLEMENTARY INFORMATION: PowerSouth Energy Cooperative, Inc. proposes to construct a new 360-megawatt peaking-load gas-fired generation facility at the existing McIntosh Power Plant in Washington County, Alabama with an in-service date of late 2010. The existing plant includes a compressed air energy storage (CAES) unit and two gas-fired combustion turbines (CTs) with a combined total capacity of 348 MW. The proposed 360 MW generating facility will consist of two simple-cycle combustion turbines, Siemens SCT6-5000F units, and generators plus associated support facilities. The site will be connected to the existing on-site transmission system. The existing substation will be rebuilt on the existing plant site to handle the three existing units and the two new units. The existing plant plus the new equipment, structures and other facilities will occupy the majority of the existing 42-acre power plant site. The CTs would operate on natural gas as a fuel source. The construction of the proposal is tentatively scheduled to begin in 2009 with an estimated duration of two years.

A Notice of Intent to Prepare an EA and Hold a Scoping Meeting was published in the Federal Register at 73 FR 65830, on November 5, 2008, Mobile Press Register on November 6, 2008, The Washington County News on November 6, 2008, The South Alabamian on November 6, 2008, and The Clarke County Democrat on November 6, 2008. A public meeting was held on November 20, 2008, at the McIntosh Elementary School, 8945 Highway 43 North, McIntosh, Alabama. A summary of public comments can be found at the Web site listed in the ADDRESSES section of this notice.

As part of its broad environmental review process, RUS must take into account the effect of the proposal on historic properties in accordance with section 106 of the National Historic Preservation Act and its implementing regulation, “Protection of Historic Properties” (36 CFR part 800). Pursuant to 36 CFR 800.2(d)(3), RUS is using its procedures for public involvement under NEPA to meet its responsibilities to solicit and consider the views of the public during section 106 review. Accordingly, comments submitted in response to this notice will assist RUS in meeting its section 106 review obligations. Any party wishing to participate more directly with RUS as a “consulting party” in the section 106 review process may submit a written request to the contact provided in the ADDRESSES section of this notice.

Alternatives considered by RUS and PowerSouth included for the CTs were: (a) No action, (b) alternate sources of power, (c) load management, (d) renewable energy sources, (e) non-renewable energy sources, and (f) alternate sites. An Environmental Report that describes the proposal in detail and discusses its anticipated environmental impacts has been prepared by PowerSouth. The Rural Utilities Service has independently reviewed and accepted the document as its EA of the proposal. The EA is available for public review at the addresses provided in the ADDRESSES section of this notice.

Questions and comments should be sent to RUS at the mailing or e-mail addresses provided in the ADDRESSES section of this notice. RUS should receive comments on the EA in writing by May 15, 2009 to ensure that they are considered in its environmental impact determination.

Should RUS determine, based on the EA, that the impacts of the construction and operation of the proposal would not have a significant environmental impact, it will prepare a Finding of No Significant Impact. Public notification of a Finding of No Significant Impact will be published in the Federal Register and in newspapers with circulation in the proposal area.

Any final action by RUS related to the proposal will be subject to, and contingent upon, compliance with all relevant Federal, State and local environmental laws and regulations, and completion of the environmental review requirements as prescribed in the RUS Environmental Policies and Procedures (7 CFR part 1794).

Dated: March 30, 2009.
Mark S. Plank,
Director, Engineering and Environmental Staff, USDA/Rural Development/Utilities Programs.

[FR Doc. E9-8546 Filed 4-14-09; 8:45 am]

BILLING CODE 3410-15-P